NUCLEAR REGULATORY COMMISSION

Advisory Committee on Reactor Safeguards Meeting of the ACRS Subcommittee on Thermal-Hydraulics Phenomena; Revision to February 22, 2012, ACRS Meeting Federal Register Notice

The Federal Register Notice for the ACRS Subcommittee meeting on Thermal-Hydraulics Phenomena scheduled to be held on February 22, 2012, has been cancelled.

The notice of this meeting was previously published in the Federal Register on February 1, 2012 [77 FR 5063].

Further information regarding this meeting can be obtained by contacting Kent Howard, Designated Federal Official (Telephone: 301-415-2989, Email: Kent.Howard@nrc.gov) between 7:30 a.m. and 5:15 p.m. (ET).

Dated: February 13, 2012.
Antonio F. Dias,
Technical Advisor, Advisory Committee on Reactor Safeguards.

[FR Doc. 2012-3842 Filed 2-16-12; 8:45 am]

BILLING CODE 7590-01-P